DEPARTMENT OF ENERGY

Federal Energy Regulatory Commission

[Docket No. CP20-55-000]

Port Arthur LNG Phase II, LLC, PALNG Common Facilities Company, LLC; Notice of Availability of the Environmental Assessment for the Proposed Port Arthur Expansion Project

The staff of the Federal Energy Regulatory Commission (FERC or Commission) has prepared a Supplemental Environmental Assessment (EA) for the Port Arthur LNG Expansion Project, proposed by Port Arthur LNG Phase II, LLC and PALNG Common Facilities Company, LLC (collectively referred to as Applicant) in the above-referenced docket. The Applicant requests approval to expand the previously authorized Port Arthur Liquefaction Terminal in Jefferson County, Texas by siting, constructing, and operating additional liquefied natural gas (LNG) facilities to increase the terminal's capability to liquefy natural gas for export by 13.46 million tonnes per annum (MTPA). The Port Arthur LNG Expansion Project would increase the terminal's total liquefaction capacity from 13.46 MTPA to 26.92 MTPA.

The Supplemental EA includes a summary of the project's impacts and responds to comments that were received on the Commission's January 15, 2021 Environmental Assessment (EA).¹ The Supplemental EA will assist the Commission in its consideration of the project's impacts on air quality, environmental justice communities, and climate change, and will inform the Commission in its review of the project under section 3 of the Natural Gas Act. Commission staff conclude that approval of the Port Arthur LNG Expansion Project, with the mitigation measures recommended in this Supplemental EA, would not constitute a major federal action significantly affecting the quality of the human environment.

¹ The Commission's January 15, 2021 Environmental Assessment of the Port Arthur LNG Expansion Project is available on eLibrary under accession no. 20210115-3014.

The U.S. Environmental Protection Agency, U.S. Department of Energy, U.S. Coast Guard, and U.S. Department of Transportation's Pipeline and Hazardous Materials Safety Administration participated as a cooperating agencies in the preparation of the Supplemental EA. Cooperating agencies have jurisdiction by law or special expertise with respect to resources potentially affected by the proposal and participate in the National Environmental Policy Act (NEPA) analysis.

The Supplemental EA incorporates the Commission's January 15, 2021 EA, which addresses the potential environmental effects of the construction and operation of the following project facilities:

• two liquefaction trains (Trains 3 and 4) each with a maximum LNG production capacity of 6.73 MTPA (13.46 MTPA total);

• one new low-pressure ground flare;

• new flare knockout drums;

• one new boil-off gas (BOG) compressor unit to compress BOG and deliver as fuel to gas turbines;

• two new utility and instrument air compressor packages to deliver air to two new air drier packages;

• one new 3.675 megawatt capacity diesel powered standby generator; and

• shifting location of some equipment from Base Project and modifications and additions to approved utilities, fire and gas detection systems, control system, firewater system, spill containment, tertiary berm, and infrastructure needed to accommodate the two additional liquefaction trains.²

² On January 18, 2023, FERC staff issued a letter approving design modifications related to Port Arthur LNG, LLC's Base Project under FERC Docket Number CP17-20-000, which included shifting and relocation of some equipment, including LNG storage tanks, and modifications and additions to utilities, and spill containment. The relocations and modifications do not involve any new facilities associated with the Expansion Project. See FERC eLibrary at https://elibrary.ferc.gov/eLibrary/search, Accession Number 20230118-3011.

The Commission mailed a copy of the Notice of Availability of the Supplemental Environmental Assessment for the Proposed Port Arthur LNG Expansion Project to federal, state, and local government representatives and agencies; elected officials; environmental and public interest groups; potentially affected landowners (as defined by the Commission's regulations) and other interested individuals and groups. The Supplemental EA is only available in electronic format. It may be viewed and downloaded from the FERC's website (www.ferc.gov), on the natural gas environmental documents page (https://www.ferc.gov/industries-data/natural-gas/environment/environmental-documents). In addition, the Supplemental EA may be accessed by using the eLibrary link on the FERC's website. Click on the eLibrary link (https://elibrary.ferc.gov/eLibrary/search) select “General Search” and enter the docket number in the “Docket Number” field (i.e. CP20-55-000). Be sure you have selected an appropriate date range. For assistance, please contact FERC Online Support at FercOnlineSupport@ferc.gov or toll free at (866) 208-3676, or for TTY, contact (202) 502-8659.

The Supplemental EA is not a decision document. It presents Commission staff's independent analysis of the environmental issues for the Commission to consider when addressing the merits of all issues in this proceeding. Any person wishing to comment on the Supplemental EA may do so. Your comments should focus on the Supplemental EA's disclosure and discussion of potential environmental effects and measures to avoid or lessen environmental impacts. The more specific your comments, the more useful they will be. To ensure the Commission has the opportunity to consider your comments prior to making its decision on this project, it is important that the Commission receive your comments on or before 5:00 p.m. Eastern Time on May 30, 2023.

For your convenience, there are four methods you can use to submit your comments to the Commission. The Commission encourages electronic filing of comments and has staff available to assist you at (866) 208-3676 or FercOnlineSupport@ferc.gov. Please carefully follow these instructions so that your comments are properly recorded.

• You can file your comments electronically using the eComment feature on the Commission's website (www.ferc.gov) under the link to FERC Online. This is an easy method for submitting brief, text-only comments on a project;

• You can file your comments electronically by using the eFiling feature also on the Commission's website (www.ferc.gov) under the link to FERC Online. With eFiling, you can provide comments in a variety of formats by attaching them as a file with your submission. New eFiling users must first create an account by clicking on “eRegister.” If you are filing a comment on a particular project, please select “Comment on a Filing” as the filing type; or

• You can file a paper copy of your comments by mailing them to the Commission. Be sure to reference the Project docket number (CP20-55-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

• In lieu of sending written comments, the Commission invites you to attend the virtual public comment sessions its staff will conduct by telephone, scheduled as follows:

Date and Time of Public Comment Sessions on the Supplemental EA

May 15, 2023

Session 1

Time: 1 p.m. local

Call in number: 888-396-9928

Participant passcode: 8598617

Session 2

Time: 6 p.m. local

Call in number: 888-396-9928

Participant passcode: 8707920

The primary goal of the comment sessions is to have stakeholders identify specific environmental issues and concerns with the Supplemental EA. Note that the comment sessions will end once all participants wishing to comment have had the opportunity to do so, or after two hours, whichever comes first. Individual oral comments will be taken one at a time with a court reporter present on the line.

There will be a brief introduction by Commission staff when the session opens, so please attempt to call in at the beginning of the session. All participants will be able to hear the comments provided by other participants; however, all lines will remain closed during the comments of others and then opened one at a time for providing comments. Once you call in, the operator will provide directions on how to indicate you would like to provide a comment. A time limit of 5 minutes may be implemented for each commentor.

Your oral comments will be recorded by the court reporter and become part of the public record for this proceeding. Transcripts of all comments received during the session will be publicly available on FERC's eLibrary system (see page 2 of this notice for instructions on using eLibrary).

It is important to note that the Commission provides equal consideration to all comments received, whether filed in written form or provided orally at a comment session.

Filing environmental comments will not give you intervenor status, but you do not need intervenor status to have your comments considered. Only intervenors have the right to seek rehearing or judicial review of the Commission's decision. At this point in the proceeding, the timeframe for filing timely intervention requests has expired. Any person seeking to become a party to the proceeding must file a motion to intervene out-of-time pursuant to Rule 214(b)(3) and (d) of the Commission's Rules of Practice and Procedures (18 CFR part 385.214(b)(3) and (d)) and show good cause why the time limitation should be waived. Motions to intervene are more fully described at https://www.ferc.gov/how-intervene.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: April 28, 2023.
Kimberly D. Bose,
Secretary.

[FR Doc. 2023-09489 Filed 5-3-23; 8:45 am]

BILLING CODE 6717-01-P